DEPARTMENT OF COMMERCE

National Oceanic and Atmospheric Administration

Agency Information Collection Activities; Submission to the Office of Management and Budget (OMB) for Review and Approval; Comment Request; NOAA Customer Surveys

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 2, 2021 (86 FR 12179), during a 60-day comment period. This notice allows for an additional 30 days for public comments.

Agency: National Oceanic & Atmospheric Administration, Commerce.

Title: NOAA Customer Surveys.

OMB Control Number: 0648-0342.

Form Number(s): None.

Type of Request: Regular submission [Revision and extension of a current information collection.].

Number of Respondents: 65,860 (197,580 for 3-year period).

Average Hours per Response: Response time varies from 5 minutes for most web surveys to two hours for focus groups or interviews.

Total Annual Burden Hours: 9,298 (27,894 for 3-year period).

Needs and Uses: This request is for a revision and extension of a currently approved generic information collection.

This collection follows the guidelines contained in the OMB Resource Manual for Customer Surveys. In accordance with Executive Order 12862, the National Performance Review, and good management practices, National Oceanic and Atmospheric Administration (NOAA) offices seek approval to continue to gather customer feedback on services and/or products which can be used in planning for service/product modification and prioritization. Under this generic clearance, individual offices would use approved questionnaires and develop new questionnaires, as needed, by selecting subsets of the approved set of collection questions and tailoring those specific questions to be meaningful for their particular programs. Surveys currently typically include IT and website satisfaction surveys, Weather Service product surveys, and National Marine Sanctuary participation surveys, among others.

This generic clearance will not be used to survey any bodies NOAA regulates unless precautions are taken to ensure that the respondents believe that they are not under any risk for not responding or for the contents of their responses, e.g., in no survey to such a population will the names and addresses of respondents be required.

Two sets of survey questions are used for generation of program-level questionnaires. Quantitative questions seek to obtain numerical ratings from respondents on their satisfaction with various aspects of the product or service they obtained—satisfaction with the quality of the product, the courtesy of the staff, the format of and documentation for data received, and similar standard types of questions. The offices using such questions are able to determine which aspects of their program need improvement or have improved. Qualitative questions are more focused on who is using the product and service, how it is being used, and the medium or format in which the respondent would like to see data provided.

NOAA seeks to add new questions to the approved question bank in order to more accurately reflect information required by NOAA in order to carry out its mission. Additionally, the number of anticipated respondents, responses, and burden hours have been updated to more accurately reflect the burden imposed by this collection.

Affected Public: Individuals or households; Business or other for-profit organizations; Not-for-profit institutions; State, Local, or Tribal government; Federal government; Farms.

Frequency: On occasion.

Respondent's Obligation: Voluntary.

Legal Authority: Executive Order 12862, Circular A-11.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0342.

Sheleen Dumas,
Department PRA Clearance Officer, Office of the Chief Information Officer, Commerce Department.

[FR Doc. 2021-13539 Filed 6-24-21; 8:45 am]

BILLING CODE 3510-12-P